DEPARTMENT OF HEALTH AND HUMAN SERVICES

Health Resources and Services Administration

Advisory Commission on Childhood Vaccines

AGENCY: Health Resources and Services Administration (HRSA), Department of Health and Human Services (HHS).

ACTION: Notice; correction.

SUMMARY: The original Federal Register Notice announcing the September 2020 Advisory Commission on Childhood Vaccines (ACCV) meeting indicated that this meeting would be held on September 3-4, 2020. This meeting is not being conducted over 2 days, and instead will only take place only on September 4, 2020.

The ACCV will hold a public meeting on September 4, 2020, at 10:00 a.m. ET. The meeting will be held via Adobe Connect and telephone conference. This will not be an in-person meeting. The public can join the meeting by:

1. (Audio Portion) Calling the conference phone number 888-790-1734 and providing the following information:

Leader Name: Ms. Tamara Overby

Passcode: 4177683

2. (Visual Portion) Connecting to the ACCV Adobe Connect Meeting using the following URL: https://hrsa.connectsolutions.com/accv/. Participants should call and connect 15 minutes prior to the meeting in order for logistics to be set up. If you have never attended an Adobe Connect meeting, please test your connection using the following URL: https://hrsa.connectsolutions.com/common/help/en/support/meeting_test.htm and get a quick overview by following URL: http://www.adobe.com/go/connectpro_overview.

Information about the ACCV and the agenda for this public meeting can be obtained by accessing the following website: https://www.hrsa.gov/advisory-committees/vaccines/index.html.

FOR FURTHER INFORMATION CONTACT: Annie Herzog, Program Analyst, Division of Injury Compensation Programs (DICP), HRSA, in one of three ways: (1) Send a request to the following address: Annie Herzog, Program Analyst, DICP, HRSA, 5600 Fishers Lane, 08N146B, Rockville, Maryland 20857; (2) call (301) 443-6593; or (3) send an email to ACCV@hrsa.gov. Meeting times could change. For the latest information regarding the meeting, including start time, please check the ACCV website: http://www.hrsa.gov/advisorycommittees/childhoodvaccines/index.html.

This meeting will only take place on September 4, 2020, and is not being conducted over 2 days (September 3-4, 2020) as stated in a previous Federal Register Notice.

Maria G. Button,
Director, Executive Secretariat.

[FR Doc. 2020-19257 Filed 8-31-20; 8:45 am]

BILLING CODE 4165-15-P